DEPARTMENT OF TRANSPORTATION

National Highway Traffic Safety Administration

[Docket No. NHTSA-2015-0035; Notice 2]

General Motors, LLC, Grant of Petition for Decision of Inconsequential Noncompliance

AGENCY: National Highway Traffic Safety Administration (NHTSA), Department of Transportation (DOT)

ACTION: Grant of petition

SUMMARY: General Motors, LLC, (GM) has determined that certain model year (MY) 2012-2015 Chevrolet Sonic passenger cars do not fully comply with Federal Motor Vehicle Safety Standard (FMVSS) No. 108, Lamps, Reflective Devices and Associated Equipment. GM has filed a noncompliance report dated March 2, 2015. GM also petitioned NHTSA on March 24, 2015, for a decision that the subject noncompliance is inconsequential as it relates to motor vehicle safety.

ADDRESSES: For further information on the decision contact Mike Cole, Office of Vehicle Safety Compliance, the National Highway Traffic Safety Administration (NHTSA), telephone (202) 366-5319, facsimile (202) 366-3081.

SUPPLEMENTARY INFORMATION:

I. Overview

General Motors, LLC, (GM) has determined that certain model year (MY) 2012-2015 Chevrolet Sonic passenger cars do not fully comply with paragraph S6.5.3.4.1 of Federal Motor Vehicle Safety Standard (FMVSS) No. 108, Lamps, Reflective Devices and Associated Equipment. GM has filed a noncompliance report dated March 2, 2015, pursuant to 49 CFR part 573, Defect and Noncompliance Responsibility and Reports. GM also petitioned NHTSA on March 24, 2015, pursuant to 49 U.S.C. 30118(d) and 30120(h) (see implementing rule at 49 CFR part 556) for an exemption from the notification and remedy requirements of 49 U.S.C. Chapter 301 on the basis that this noncompliance is inconsequential to motor vehicle safety.

Notice of receipt of the GM petition was published, with a 30-day public comment period, on May 12, 2015, in the Federal Register (80 FR 27229). No comments were received. To view the petition and all supporting documents log onto the Federal Docket Management System (FDMS) Web site at: http://www.regulations.gov/. Then follow the online search instructions to locate docket number “NHTSA-2015-0035.”

II. Vehicles Involved

Affected are approximately 310,243 MY 2012-2015 Chevrolet Sonic passenger cars manufactured between May 5, 2011 and February 4, 2015.

III. Noncompliance:

GM explains that the noncompliance is that the high-beam headlamp lenses on the subject vehicles are not marked with “HB3” (the HB bulb type) as required by paragraph S6.5.3.4.1 of FMVSS No. 108.

IV. Rule Text

Paragraph S6.5.3.4.1 of FMVSS No. 108 requires in pertinent part:

S6.5.3.4.1 The lens of each replaceable bulb headlamp must bear permanent marking in front of each replaceable light source with which it is equipped that states either: The HB Type, if the light source conforms to S11 of this standard for filament light sources, . . . .

V. Summary of GM's Analyses

GM stated its belief that the subject noncompliance is inconsequential to motor vehicle safety for the following reasons:

(A) The high-beam headlamp lenses in question are clearly marked “9005” (the ANSI designation), which GM believes to be a well-known alternative designation recognized throughout the automotive industry and used by lighting manufacturers interchangeably with HB3, the lamp's HB type. GM also verified that the vehicle owner's manuals identify the high beam replacement bulb as 9005.

(B) That the mismarked high-beam headlamps are the correct headlamps for the subject vehicles and that they conform to all other requirements including photometric as required by FMVSS No. 108.

(C) The risk of customer confusion when selecting a correct replacement bulb is remote. Both the HB3 type and the 9005 ANSI designation are marked on the vehicles' headlamp bulb sockets, and packaging for replacement bulbs is commonly marked with both the HB type and the ANSI designation. GM searched a number of national automotive parts stores (Autozone, O'Reilly, Advanced Auto Parts, and Pep Boys), and found that all HB3 replacement bulbs in these stores were marked with the 9005 ANSI designation. Should a consumer attempt to install an incorrect bulb into the headlamp sockets, the bulb could not be successfully installed because of the unique nature of the socket hardware.

(D) GM also cited several previous petitions that NHTSA has granted dealing with noncompliances that GM believes are similar to the noncompliance that is the subject of its petition. Based on these decisions, GM believes that there is also precedent to support granting its petition.

GM is not aware of any VOQ or field data in which a consumer has complained of not being able to identify the proper replacement headlamp bulb for the affected vehicles, which GM believes to be evidence that this noncompliance is not impacting consumers.

GM has additionally informed NHTSA that it has corrected the noncompliance by adding the HB3 designation bulb type to the high-beam headlamp lens in all vehicles produced on or after February 21, 2015.

In summation, GM believes that the described noncompliance of the subject vehicles is inconsequential to motor vehicle safety, and that its petition, to exempt GM from providing recall notification of noncompliance as required by 49 U.S.C. 30118 and remedying the recall noncompliance as required by 49 U.S.C. 30120 should be granted.

NHTSA's Decision

NHTSA's Analysis: We agree with GM that the ANSI “9005” designation is a well-known alternative designation for the HB3 light source and that replacement light source packaging is commonly marked with both the HB type and ANSI designation. As such, we believe that consumers can properly identify and purchase the correct replacement upper beam light source for the affected vehicles. Further, the unique bulb holder design incorporated into the headlamps would prevent consumers from installing a light source other than an HB3/9005 so there would be no effect on headlamp performance.

NHTSA's Decision: In consideration of the foregoing, NHTSA finds that GM has met its burden of persuasion that the subject FMVSS No. 108 noncompliance is inconsequential to motor vehicle safety. Accordingly, GM's petition is hereby granted and GM is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: 49 U.S.C. 30118, 30120: delegations of authority at 49 CFR 1.95 and 501.8.

Jeffrey M. Giuseppe,
Director, Office of Vehicle Safety Compliance.

[FR Doc. 2017-01004 Filed 1-17-17; 8:45 am]

BILLING CODE 4910-59-P